SOCIAL SECURITY ADMINISTRATION

[Docket No. SSA-2020-0004]

Privacy Act of 1974; System of Records

AGENCY: Office of Retirement and Disability Policy, Social Security Administration (SSA).

ACTION: Notice of a modified system of records.

SUMMARY: In accordance with the Privacy Act, we are issuing public notice of our intent to modify an existing system of records entitled, Electronic Disability Claim File (60-0320), hereinafter referred to as the eDib Claim File, last published on December 22, 2003. This notice publishes details of the modified system as set forth below under the caption, SUPPLEMENTARY INFORMATION.

DATES: The system of records notice (SORN) is applicable upon its publication in today's Federal Register, with the exception of the routine uses, which are effective July 6, 2020. We invite public comment on the routine uses or other aspects of this SORN. In accordance with 5 U.S.C. 552a(e)(4) and (e)(11), the public is given a 30-day period in which to submit comments. Therefore, please submit any comments by July 6, 2020.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov, please reference docket number SSA-2020-0004. All comments we receive will be available for public inspection at the above address and we will post them to http://www.regulations.gov.

FOR FURTHER INFORMATION CONTACT: Anthony Tookes, Government Information Specialist, Privacy Implementation Division, Office of Privacy and Disclosure, Office of the General Counsel, SSA, Room G-401 West High Rise, 6401 Security Boulevard, Baltimore, Maryland 21235-6401, telephone: (410) 966-5855, email: Anthony.Tookes@ssa.gov.

SUPPLEMENTARY INFORMATION: We are modifying the system of records name from “eDib Claim File, Social Security Administration, Deputy Commissioner for Disability and Income Security Programs” to “Electronic Disability (eDib) Claim File” to accurately reflect the system. We are modifying the system manager to clarify the name of the office.

In addition, we are clarifying the categories of individuals covered by the system of records and expanding the categories of records to include vendor information concerning medical examiners or medical providers from whom SSA obtains medical records to support medical disability determinations. Specific identifying information concerning the vendor could include name, address, telephone number, tax identification number or employer identification number.

We are modifying the categories of records to include beneficiary notice control number (BNC). Section 2 of the Social Security Number Fraud Prevention Act of 2017 (H.R. 624, Pub. L. 115-59, hereafter referred to as P.L. 115-59), restricts the inclusion of Social Security numbers (SSN) on documents the Federal government sends by mail. Some of our mailed documents include a placeholder for the responder to include the full SSN. Pursuant to P.L. 115-59, we will retain the SSN for mailed documents that we determined are “mission critical” and require an SSN to facilitate our business processes. The remaining mailed documents that are not mission critical will have the SSN removed and replaced with a BNC. We also clarified that this system contains data from other SSA systems of records.

We are modifying the eDib Claim File to include the Disability Case Processing System (DCPS). DCPS modernizes the technology infrastructure that supports disability case processing nationwide. DCPS contains information from SSA and Disability Determination Services (DDS) personnel, disability applicants, disability claimants or individuals authorized to represent them, beneficiaries, third parties (e.g., medical examiners and medical providers). DCPS interfaces with existing SSA disability claims systems to gather information needed to process disability claims and make final disability determinations.

The Disability Vendor Repository (DVR) is maintained within DCPS. The DVR is where we maintain a list of medical examiners and medical providers. The DVR contains vendor information that supports the disability determination process; specifically, medical evidence requests, consultative exam requests, medical and non-medical assistance requests, and fiscal processes.

We are deleting routine use No. 17, of the prior version of the SORN, as it is no longer applicable and no longer a condition of the individual's eligibility for payment under section 1611(e)(3) of the Social Security Act. This routine use permitted disclosures to institutions or facilities approved for the treatment of drug addicts or alcoholics. We are also adding a routine use to permit disclosures to contractors, cooperative agreement awardees, Federal and State agencies, and Federal congressional support agencies for research and statistical activities. In the past, we disclosed information from this system of records to the entities listed above under our efficient administration routine use. We are establishing this new routine use to distinguish disclosures that we make specifically for research purposes. We are also modifying the policies and practices for the retrieval of records to clarify that we will also retrieve records by BNC.

Lastly, we are modifying the notice throughout to correct miscellaneous stylistic formatting and typographical errors of the previously published notice, and to ensure the language reads consistently across multiple systems. We are republishing the entire notice for ease of reference.

In accordance with 5 U.S.C. 552a(r), we provided a report to OMB and Congress on this modified system of records.

Matthew Ramsey,
Executive Director, Office of Privacy and Disclosure, Office of the General Counsel.

SYSTEM NAME:

Electronic Disability (eDib) Claim File, 60-0320.

SECURITY CLASSIFICATION:

Unclassified.

SYSTEM LOCATION:

The eDib Claim Files are virtually established in Social Security Administration (SSA) field offices when claims for benefits are filed, or a lead is expected to result in a claim. The electronic records are maintained at: Social Security Administration, Office of Systems, National Computer Center, 6401 Security Boulevard, Baltimore, MD 21235.

SYSTEM MANAGER(S):

Social Security Administration, Deputy Commissioner of Retirement and Disability Policy, Office of Disability Policy, 6401 Security Boulevard, Baltimore, MD 21235.

AUTHORITY FOR MAINTENANCE OF THE SYSTEM:

Sections 202-205, 216, 221, 223, 226, 228, 1611, 1614, 1631, 1818, 1836, and 1840 of the Social Security Act, as amended.

PURPOSE(S) OF THE SYSTEM:

The eDib Claim File contains material related to the request for or continuation of benefit payments under Titles II and XVI of the Social Security Act. We will use the information in this system for purposes of pursuing claims; collecting, documenting, organizing and maintaining information and documents for making determinations of eligibility for disability benefits, the amount of benefits, the appropriate payee for benefits; reviewing continuing eligibility; holding hearings or administrative review processes; ensuring that proper adjustments are made based on events affecting entitlement; and answering inquiries. We may also use eDib claim files for quality review, evaluation, and measurement studies, and other statistical and research purposes. We may maintain extracts as interviewing tools, activity logs, records of claims clearance, and records of type or nature of actions taken.

CATEGORIES OF INDIVIDUALS COVERED BY THE SYSTEM:

This system maintains information about claimants and those acting on their behalf, applicants, beneficiaries and potential claimants for disability benefits and payments administered by SSA. The system also maintains information about medical examiners and medical providers.

CATEGORIES OF RECORDS IN THE SYSTEM:

This system maintains records that include, but are not limited to, the name, Social Security number (SSN), and date of birth of the claimant or potential claimant and may contain the application for benefits; supporting evidence and documentation for initial and continuing entitlement (e.g., diagnosis, beginning and end dates of disability, basis for disability determination, copies of medical reports, work history, educational level, reexamination date (if applicable)); date of application; payment documentation; correspondence to and from claimants or representatives; information about representative payees; information received from third parties regarding claimants' potential entitlement; BNC; vendor information concerning medical examiners or medical providers from whom SSA obtains medical records to support medical disability determinations; data collected as a result of inquiries and complaints or evaluation and measurement studies, which assess the effectiveness of claims policies; records of certain actions entered directly into the computer processes, which include reports of changes of address, work status and other post-adjudicative actions; and abstracts used for statistical purposes (e.g., disallowances, technical denials, and demographic and statistical information relating to disability decisions).

The system may also include names and titles of persons making or reviewing the determination and certain administrative data as well as data relative to the location of the file and the status of the claim.

Finally, this system includes medical examiners' and medical providers' names, address, tax identification number or employee identification number, and an indicator when the medical examiner or medical provider is listed on the Department of Health and Human Services Office of Inspector General's List of Excluded Individuals and Entities (LEIE). The LEIE list identifies medical providers or medical examiners who may provide medical evidence to SSA that we cannot accept.

RECORD SOURCE CATEGORIES:

We obtain information in this system from claimants, beneficiaries, applicants and recipients; accumulated by SSA from reports of employers or self-employed individuals; various local, State, and Federal agencies, including from the LEIE; claimant representatives; and other sources that support factors of entitlement and continuing eligibility, (i.e., information received from third parties regarding claimant's potential entitlement or eligibility). This system also contains data from other SSA systems of records, including the Claims Folder (SORN 60-0089).

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, the Internal Revenue Service (IRS), or IRS regulations.

1. To the Office of the President in response to an inquiry from that office made on behalf of, and at the request of, the subject of the record or a third party acting on the subject's behalf.

2. To a congressional office in response to an inquiry from that office made on behalf of, and at the request of, the subject of the record or third party acting on the subject's behalf.

3. To the Department of Justice (DOJ), a court or other tribunal, or another party before such court or tribunal, when:

(a) SSA, or any component thereof; or

(b) Any SSA employee in his or her official capacity; or

(c) Any SSA employee in his or her individual capacity where DOJ (or SSA where it is authorized to do so) has agreed to represent the employee; or

(d) The United States or any agency thereof where SSA determines the litigation is likely to affect SSA or any of its components,

is a party to the litigation or has an interest in such litigation, and we determine that the use of such records by DOJ, a court or other tribunal, or another party before the tribunal is relevant and necessary to the litigation, provided, however, that in each case, the agency determines that disclosures of the records to DOJ, court or other tribunal, or another party is a use of the information contained in the records that is compatible with the purpose for which the records were collected.

4. To third party contacts (e.g., employers and private pension plans) in situations where the party to be contacted has, or is expected to have, information relating to the individual's capability to manage his or her benefits or payments, or his or her eligibility for or entitlement to benefits or eligibility for payments, under the Social Security program when:

(a) The individual is unable to provide information being sought. An individual is considered to be unable to provide certain types of information when:

i. He or she is incapable or of questionable mental capability;

ii. He or she cannot read or write;

iii. He or she cannot afford the cost of obtaining the information;

iv. He or she has a hearing impairment, and contacts us via telephone through a telecommunications relay system operator;

v. A language barrier exists; or

vi. The custodian of the information will not, as a matter of policy, provide it to the individual; OR

(b) The data is necessary to establish the validity of evidence or to verify the accuracy of information presented by the individual, and it concerns one or more of the following:

i. His or her eligibility for benefits under the Social Security program;

ii. The amount of his or her benefit or payment; or

iii. Any case in which the evidence is being reviewed as a result of suspected abuse or fraud or concern for program integrity, quality appraisal, or evaluation and measurement activities.

5. To third party contacts, where necessary, to establish or verify information provided by representative payees or payee applicants.

6. To a person (or persons) on the rolls when a claim is filed by an individual which is adverse to the person on the rolls, i.e.,

(a) An award of benefits to a new claimant precludes an award to a prior claimant; or

(b) An award of benefits to a new claimant will reduce the benefit payments to the individual(s) on the rolls, but only for information concerning the facts relevant to the interest of each party in a claim.

7. To employers, current or former, for correcting or reconstructing earnings records and for Social Security tax purposes.

8. To the Department of Treasury for:

(a) Collecting Social Security taxes, or as otherwise pertinent to tax and benefit payment provisions of the Act, including SSN verification services; and

(b) Investigating alleged theft, forgery, or unlawful negotiation of Social Security checks.

9. To the United States Postal Service, for investigating the alleged theft or forgery of Social Security checks.

10. To DOJ, for the purposes of:

(a) Investigating and prosecuting violations of the Act to which criminal penalties attach;

(b) Representing the Commissioner of Social Security; and

(c) Investigating issues of fraud or violations of civil rights by officers or SSA employees.

11. To the Department of State, for administration of the Social Security Act in foreign countries through facilities and services of that agency.

12. To the American Institute, a private corporation under contract to the Department of State, for administering the Social Security Act in Taiwan through facilities and services of that agency.

13. To the Department of Veterans Affairs (VA), Regional Office, Manila, Philippines, for the administration of the Social Security Act in the Philippines and other parts of the Asia-Pacific region through services and facilities of that agency.

14. To the Department of Interior and its agents, for the purpose of administering the Social Security Act in the Northern Mariana Islands through facilities and services of that agency.

15. To State Social Security administrators, for administering agreements pursuant to section 218 of the Act.

16. To private medical and vocational consultants, for use in preparing for, or evaluating the results of, consultative medical examinations or vocational assessments which they were engaged to perform by SSA or a State agency, in accordance with sections 221 or 1633 of the Social Security Act.

17. To specified business and other community members and Federal, State, and local agencies for verification of eligibility for benefits under section 1631(e) of the Act.

18. To applicants, claimants, prospective applicants or claimants, other than the data subject, their authorized representatives or representative payees to the extent necessary to pursue Social Security claims and to representative payees when the information pertains to individuals for whom they serve as representative payees, for the purpose of assisting SSA in administering its representative payment responsibilities under the Social Security Act and assisting the representative payees in performing their duties as payees, including receiving and accounting for benefits for individuals for whom they serve as payees.

19. In response to legal process or interrogatories relating to the enforcement of an individual's child support or alimony obligations, as required by sections 459 and 460 of the Social Security Act.

20. To Federal, State, or local agencies (or agents on their behalf) for administering income or health maintenance programs, including programs under the Social Security Act. Such disclosures include the release of information to the following agencies, but are not limited to:

(a) Railroad Retirement Board, for administering provisions of the Railroad Retirement and Social Security Acts relating to railroad employment, and for administering the Railroad Unemployment Insurance Act;

(b) VA, for administering 38 U.S.C. 1312, and upon request, for determining eligibility for, or amount of, veterans' benefits or verifying other information with respect thereto pursuant to 38 U.S.C. 5106;

(c) Department of Labor, for administering provisions of Title IV of the Federal Coal Mine Health and Safety Act, as amended by the Black Lung Benefits Act;

(d) State agencies for administering the Medicaid program;

(e) State agencies for making determinations of food stamp eligibility under the food stamp program;

(f) State audit agencies for auditing State supplementation payments and Medicaid eligibility considerations; and expenditures of Federal funds by the State in support of the Disability Determination Services (DDS);

(g) State welfare departments pursuant to agreements with SSA, for administration of State supplementation payments; for enrollment of welfare beneficiaries for medical insurance under section 1843 of the Social Security Act; and for conducting independent quality assurance reviews of SSI recipient records, provided that the agreement for Federal administration of the supplementation provides for such an independent review; and

(h) State vocational rehabilitation agencies, State health departments, or other agencies providing services to disabled children, for consideration of rehabilitation services, per sections 222 and 1615 of the Social Security Act.

21. To the Social Security agency of a foreign country, to carry out the purpose of an international Social Security agreement entered into between the United States and the other country, pursuant to section 233 of the Social Security Act.

22. To the IRS, Department of the Treasury, for the purpose of auditing SSA's compliance with the safeguard provisions of the IRC of 1986, as amended.

23. To third party contacts (including private collection agencies under contract with SSA), for the purpose of their assisting us in recovering overpayments.

24. To the Department of Homeland Security, upon request, to identify and locate aliens in the United States pursuant to section 290(b) of the Immigration and Nationality Act (8 U.S.C. 1360(b)).

25. To contractors and other Federal agencies, as necessary, for the purpose of assisting SSA in the efficient administration of its programs. We disclose information under this routine use only in situations in which we may enter into a contractual or similar agreement with a third party to assist in accomplishing an agency function relating to this system of records.

26. To the Department of Education, addresses of beneficiaries who are obligated on loans held by the Secretary of Education or a loan made in accordance with 20 U.S.C. 1071, et seq. (the Robert T. Stafford Student Loan Program), as authorized by section 489A of the Higher Education Act of 1965.

27. To student volunteers, individuals working under a personal services contract, and other workers who technically do not have the status of Federal employees, when they are performing work for SSA, as authorized by law, and they need access to personally identifiable information (PII) in SSA records in order to perform their assigned agency functions.

28. To Federal, State and local law enforcement agencies and private security contractors, as appropriate, information necessary:

(a) To enable them to protect the safety of SSA employees and customers, the security of the SSA workplace, the operation of SSA facilities, or

(b) To assist investigations or prosecutions with respect to activities that affect such safety and security or activities that disrupt the operations of SSA facilities.

29. To the National Archives and Records Administration (NARA) under 44 U.S.C. 2904 and 2906.

30. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

31. To another Federal agency or Federal entity, when SSA determines that information from this system of records is reasonably necessary to assist the recipient agency or entity in:

(a) Responding to a suspected or confirmed breach; or

(b) Preventing, minimizing, or remedying the risk of harm to individuals, the recipient agency or entity (including its information systems, programs, and operations), the Federal Government, or national security, resulting from a suspected or confirmed breach.

32. To contractors, cooperative agreement awardees, State agencies, Federal agencies, and Federal congressional support agencies for research and statistical activities that are designed to increase knowledge about present or alternative Social Security programs; are of importance to the Social Security program or the Social Security beneficiaries; or are for an epidemiological project that relates to the Social Security program or beneficiaries. We will disclose information under this routine use pursuant only to a written agreement with us.

POLICIES AND PRACTICES FOR STORAGE OF RECORDS:

We will maintain records in this system in electronic and paper form.

POLICIES AND PRACTICES FOR RETRIEVAL OF RECORDS:

We will retrieve claim file records by SSN, name, or BNC. We will retrieve medical examiner and medical provider records by name and employer identification number.

POLICIES AND PRACTICES FOR RETENTION AND DISPOSAL OF RECORDS:

In accordance with NARA rules codified at 36 CFR 1225.16, we maintain records in accordance with the approved NARA Agency-Specific Records Schedule N1-47-05-1.

ADMINISTRATIVE, TECHNICAL, AND PHYSICAL SAFEGUARDS:

We retain electronic and paper files containing personal identifiers in secure storage areas accessible only by our authorized employees who have a need for the information when performing their official duties. Security measures include, but are not limited to, the use of codes and profiles, personal identification number and password, and personal identification verification cards. We restrict access to specific correspondence within the system based on assigned roles and authorized users. We will use audit mechanisms to record sensitive transactions as an additional measure to protect information from unauthorized disclosure or modification.

We annually provide our employees and contractors with appropriate security awareness training that includes reminders about the need to protect PII and the criminal penalties that apply to unauthorized access to, or disclosure of PII. See 5 U.S.C. 552a(i)(1). Furthermore, employees and contractors with access to databases maintaining PII must annually sign a sanction document that acknowledges their accountability for inappropriately accessing or disclosing such information.

RECORD ACCESS PROCEDURES:

Individuals may submit requests for information about whether this system contains a record about them by submitting a written request to the system manager at the above address, which includes their name, SSN, or other information that may be in this system of records that will identify them. Individuals requesting notification of, or access to, a record by mail must include: (1) A notarized statement to us to verify their identity; or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

None.

HISTORY:

68 FR 71210, Electronic Disability Claim File

72 FR 69723, Electronic Disability Claim File

83 FR 54969, Electronic Disability Claim File

[FR Doc. 2020-12067 Filed 6-3-20; 8:45 am]

BILLING CODE 4191-02-P